DEPARTMENT OF HOMELAND SECURITY

Coast Guard

[Docket No. USCG-2012-1091]

Availability of Final Environmental Assessment and Finding of No Significant Impact for the Proposed Modification of the Bayonne Bridge Across the Kill Van Kull Between Bayonne, Hudson County, New Jersey and Staten Island, Richmond County, New York

AGENCY: Coast Guard, DHS.

ACTION: Notice of availability.

SUMMARY: This notice announces the availability of a Final Environmental Assessment (Final EA) which examines the reasonably foreseeable environmental impacts and socio-economic impacts of the proposed modification of the historic Bayonne Bridge across the Kill Van Kull between Bayonne, New Jersey and Staten Island, New York. This notice also announces the availability of the Finding of No Significant Impact (FONSI). Because the Bayonne Bridge is a structure over navigable waters of the United States, the proposed bridge modification requires a Coast Guard Bridge Permit Amendment. This notice provides information on where to view the Final EA and FONSI, which consider an application by the Port Authority of New York & New Jersey (PANYNJ) for Coast Guard approval of the modification to the Bayonne Bridge across the Kill Van Kull.

ADDRESSES: We have provided a copy of the Final EA and FONSI in our online docket at http://www.regulations.gov. Also, the Coast Guard First District Bridge Office at 1 South Street Bldg 1, New York, NY 10004-1466 will maintain a printed copy of the Final EA and FONSI for public viewing. The document will be available for inspection at this location between 8 a.m. and 4 p.m., Monday through Friday, except Federal holidays. The document will also be available for inspection in the locations shown in the section below titled “Viewing the Final EA and FONSI.”

FOR FURTHER INFORMATION CONTACT: If you have questions on this notice, call or email Christopher Bisignano, Bridge Management Specialist, First Coast Guard District, U.S. Coast Guard; telephone 212-668-7165, email Christopher.J.Bisignano@uscg.mil. If you have questions on viewing material on the docket, call Docket Operations at 202-366-9826.

SUPPLEMENTARY INFORMATION:

Authority: The Final Environmental Assessment and Finding of No Significant Impact have been prepared in accordance with the National Environmental Policy Act (NEPA) (42 U.S.C. 4321 et. seq.); Council on Environmental Quality (CEQ) Regulations for Implementing NEPA (40 CFR 1500-1508) and associated CEQ guidelines; Department of Homeland Security Management Directive 5100.1, Environmental Planning Program; and United States Coast Guard Commandant Instruction M16475.1D, National Environmental Policy Act Implementing Procedures and Policy for Considering Environmental Impacts.

Viewing the Final EA and FONSI: To view Final EA and FONSI go to http://www.regulations.gov, insert “USCG-2012-1091” in the Search box, press Enter, then click on the “Open Docket Folder” option. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility. The Final EA and FONSI are also available online at http://www.uscg.mil/d1/prevention/Bridges.asp, www.dhs.gov/nepa, and http://www.panynj.gov/bayonnebridge/, and are available from 10 a.m.-3 p.m., Monday through Friday (except federal holidays and as noted below), for inspection at the following locations:

1. U.S. Coast Guard Battery Bldg, 1 South Street, Building 1, New York, NY 10004

2. U.S. Coast Guard Sector New York, 212 Coast Guard Drive, Staten Island, NY 10305

3. Bayonne City Hall, 630 Avenue C, Bayonne, NJ 07002

4. Staten Island Borough Hall, 10 Richmond Terrace, Room 100, Staten Island, NY 10301

5. Bayonne Public Library, 630 Avenue C, Bayonne, NJ 07002 (Also available from 12 p.m.-5 p.m. on Saturdays)

6. Port Richmond-NY Public Library, 75 Bennett Street, Staten Island, NY 10302 (Also available 12 p.m.-5 p.m. on Thursdays and Saturdays)

7. Ironbound Community Corp, 317 Elm Street, Newark, NJ 07105

8. New York Assembly District 61, 853 Forest Avenue, Staten Island, NY 10301

9. New Jersey Legislative District 31, 447 Broadway, Bayonne, NJ 07002

10. New York City Council District 49, 130 Stuyvesant Place, Staten Island, NY 10301

11. Staten Island Community Board 1, 1 Edgewater Plaza, Room 217, Staten Island, NY 10305

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

Port Authority of New York and New Jersey (PANYNJ) has proposed to modify the Bayonne Bridge across navigable waters of the United States by raising the roadway thereby increasing the vertical navigational clearance from approximately 151 feet to 215 feet at Mean High Water. A thorough description of the project and how it would be completed can be found at the project's Web site: http://www.panynj.gov/bayonnebridge/.

The proposed bridge modification project has been identified as a nationally or regionally significant project under ”Implementing Executive Order 13604 on Improving Performance of Federal Permitting and Review of Infrastructure Projects: A Federal Plan for Modernizing the Federal Permitting and Review Process for Better Projects, Improved Environmental and Community Outcomes, and Quicker Decisions,” dated June 2012, which requires agencies to identify and expedite the permitting and environmental review process for regionally or nationally significant infrastructure projects. The existing Bayonne Bridge has a vertical navigational clearance of approximately 151 feet above the Kill Van Kull at Mean High Water. The applicant proposes to increase the vertical navigational clearance to approximately 215 feet above the waterway at Mean High Water to provide greater clearances to accommodate larger, Post-Panamax vessels and thereby ensure the long-term viability of the Port of New York and New Jersey. Post-Panamax vessels are wider and taller ships with deeper drafts that will be able to traverse through the Panama Canal once improvements on the canal are completed in 2014. The expanded purpose of the Bayonne Bridge project is to improve the substandard features and seismic stability of the existing bridge and ensure it conforms to modern highway and structural design standards. In addition, the existing bridge is eligible for listing on the National Register of Historic Places. Therefore, the Coast Guard initiated consultation under Section 106 of the National Historic Preservation Act. The Advisory Council on Historic Preservation accepted the Coast Guard invitation to participate in the Section 106 process. As a result, a Section 106 Programmatic Agreement was formulated and then executed on May 7, 2013. The Section 106 Programmatic Agreement has been included in the Final EA.

The Coast Guard issued a NEPA Workplan, dated September 2011, which provided a discussion of the project's Purpose and Need, project alternatives and the framework of the environmental analysis. On October 31, 2011, the Coast Guard held a coordination meeting with city, state and federal agencies to discuss the project's scope and the NEPA Workplan. On November 14, 2011, the Coast Guard issued a solicitation requesting comments from the general public for the scope of the project and the NEPA Workplan. Comments received following the meeting and during the solicitation comment period included concerns from the U.S. Federal Highway Administration, the Environmental Protection Agency, various private organizations and individuals, and others regarding additional cargo volumes due to larger ships entering the Port of New York and New Jersey, the expansion of the port and port facilities, and the related impacts to air quality and traffic. In response to these comments, an Induced Demand Analysis was conducted by an independent source to study the impact of the proposed action to those communities surrounding the Port of New York and New Jersey. Further information regarding this analysis can be found in Chapter 18 of the Final EA and in Appendix I. In addition, the Coast Guard met with representatives from minority and low income communities in Staten Island, NY and Newark, NJ to explain the Coast Guard bridge permit process and to ensure those communities had a voice in the public comment process.

On January 4, 2013, the Coast Guard published a notice in the Federal Register announcing the availability of the Draft EA, inviting comments on it, and announcing the dates and locations of two public meetings on the Draft EA (78 FR 740). On January 25, 2013, the Coast Guard published a supplemental notice in the Federal Register announcing the extension of the comment period to 60 days, and a third public meeting. Public meetings were held on February 5, 2013, in Bayonne, NJ, February 7, 2013, in Staten Island, NY, and February 13, 2013, in Newark, NJ. Based on the information received during the 60-day public comment period, and during the three public meetings, the Coast Guard has determined that a Final Environmental Assessment is the most appropriate level of environmental documentation for this project. The Coast Guard has determined that there are no significant impacts and has issued a Finding of No Significant Impact. The Final EA and appendices and FONSI are available online in the www.regulations.gov docket as well as at http://www.uscg.mil/d1/prevention/Bridges.asp.

Alternatives for the proposed project considered include: (1) Taking no action; (2) various build alternatives that satisfy the purpose and need; (3) a tunnel; (4) new cargo terminals constructed downstream of the Bayonne Bridge; and (5) a ferry service in lieu of the bridge. Build alternatives included raising the roadway within the existing superstructure (preferred), jacking the arch superstructure, converting to a lift bridge, or constructing a new bridge.

As a structure over navigable waters of the United States, it requires a Coast Guard Bridge Permit Amendment pursuant to the Bridge Act of March 23, 1906, as amended, Title 33 U.S.C. 491. Additionally, the bridge permit amendment would be the major federal action in this undertaking since federal funds will not be used, and therefore the Department of Homeland Security, through the Coast Guard is the federal lead agency for review of potential effects on the human environment, including historic properties, pursuant to the National Environmental Policy Act of 1969, as amended (42 U.S.C. 4321 et seq.) and the National Historic Preservation Act, as amended (16 U.S.C. 470 et seq.).

The Coast Guard, with assistance from PANYNJ, has prepared a Final EA in accordance with NEPA. See “Viewing the Final EA and FONSI” above. The Final EA identifies and examines the reasonable alternatives (including “No Build”) and assesses the potential for impact to the human environment, including historic properties, of the alternative proposals.

This notice is issued under the authority of 5 U.S.C. 552 (a). Additionally, the Final EA and FONSI have been prepared in accordance with the National Environmental Policy Act (NEPA) (42 U.S.C. 4321 et seq.); Council on Environmental Quality Regulations for Implementing NEPA (40 CFR 1500-1508) and associated CEQ guidelines; Department of Homeland Security Management Directive 5100.1, Environmental Planning Program; and United States Coast Guard Commandant Instruction M16475.1D, National Environmental Policy Act Implementing Procedures and Policy for Considering Environmental Impacts.

Dated: May 10, 2013.
Brian L. Dunn,
Administrator, Office of Bridge Programs, U.S. Coast Guard.

[FR Doc. 2013-11627 Filed 5-15-13; 8:45 am]

BILLING CODE 9110-04-P